NATIONAL SCIENCE FOUNDATION

Advisory Committee for Mathematical and Physical Sciences; Notice of Meeting

In accordance with Federal Advisory Committee Act (Pub. L. 92-463, as amended), the National Science Foundation announces the following meeting:

Name: Directorate for Mathematical and Physical Sciences Advisory Committee (66).

Date/Time: November 2, 2011 2 p.m.-4 p.m.; November 3, 2011 8 a.m.-6 p.m.; November 4, 2011 8 a.m.-3 p.m.

Place: National Science Foundation, 4201 Wilson Boulevard, Arlington, VA 22230, November 5, Room 1005, November 6 and 7, Room 1235.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda:

Briefing to new members about NSF and Directorate (11/2).

Update on current status of Directorate.

Reports from liaisons with other Advisory Committees.

Meeting of MPSAC with Divisions within MPS Directorate.

Discussion of MPS Long-term Planning Areas.

Summary Minutes: May be obtained from the contact person listed above.

Dated: October 11, 2011.
Susanne E. Bolton,
Committee Management Officer.

[FR Doc. 2011-26655 Filed 10-14-11; 8:45 am]

BILLING CODE 7555-01-P